SECURITIES AND EXCHANGE COMMISSION

[File No. 500-1]

Green Energy Resources, Inc.; Order of Suspension of Trading

June 22, 2010.

It appears to the Securities and Exchange Commission that there is a lack of current and accurate information concerning the securities of Green Energy Resources, Inc. (“Green Energy”) because of questions regarding the accuracy of statements by Green Energy in press releases concerning, among other things, the company's involvement in the Gulf of Mexico oil spill cleanup effort.

The Commission is of the opinion that the public interest and the protection of investors require a suspension of trading in the securities of Green Energy.

Therefore, it is ordered, pursuant to Section 12(k) of the Securities Exchange Act of 1934, that trading in the securities of the above-listed company is suspended for the period from 9:30 a.m. EDT June 22, 2010 through 11:59 p.m. EDT, on July 6, 2010.

By the Commission.
Elizabeth M. Murphy,
Secretary.

[FR Doc. 2010-15425 Filed 6-22-10; 4:15 pm]

BILLING CODE 8010-01-P